DEPARTMENT OF COMMERCE

National Oceanic and Atmospheric Administration

RIN 0648-XA110

Endangered and Threatened Species; Take of Anadromous Fish

AGENCY: National Marine Fisheries Service (NMFS), National Oceanic and Atmospheric Administration (NOAA), Commerce.

ACTION: Notice of availability and request for comment.

SUMMARY: The Puget Sound Treaty Tribes and the Washington Department of Fish and Wildlife submitted to NMFS, pursuant to the protective regulations promulgated for Puget Sound Chinook salmon under Limit 6 of the Endangered Species Act (ESA) 4(d) Rule for salmon and steelhead, a jointly developed Resource Management Plan (RMP). The RMP specifies the future management of commercial, recreational, subsistence and tribal salmon fisheries potentially affecting listed Puget Sound Chinook salmon from May 1, 2010, through April 30, 2015. This document serves to notify the public of the availability for comment of the proposed evaluation of the Secretary of Commerce (Secretary) as to how the RMP addresses the criteria in Limit 6 of the ESA 4(d) Rule.

DATES: Written comments on the Secretary's proposed evaluation must be received at the appropriate address or fax number (see ADDRESSES) no later than 5 p.m. Pacific Standard Daylight Time on January 28, 2011.

ADDRESSES: Comments and requests for copies of the proposed evaluation should be addressed to Susan Bishop, Salmon Management Division, National Marine Fisheries Service, 7600 Sand Point Way, NE., Seattle, Washington 98115-0070, or faxed to (206) 526-6736. Comments on this proposed evaluation may be submitted by e-mail. The mailbox address for providing e-mail comments is 2010PSCHNKHARVEST.nwr@noaa.gov. Include in the subject line the following document identifier: “2010 CHNK PSHARVEST proposed evaluation.” The document is also available on the Internet at http://www.nwr.noaa.gov/Salmon-Harvest-Hatcheries/State-Tribal-Management/PS-Chinook-RMPs.cfm.

FOR FURTHER INFORMATION CONTACT: Susan Bishop at phone number: (206) 526-4587, Puget Sound Harvest Team Leader or e-mail: susan.bishop@noaa.gov regarding the RMP.

SUPPLEMENTARY INFORMATION: This notice is relevant to the Puget Sound Chinook salmon (Oncorhynchus tshawytscha) Evolutionarily Significant Unit (ESU).

Electronic Access

The full texts of NMFS' proposed evaluation and proposed determination are available on the Internet at the NMFS, Salmon Management Division Web site at: http://www.nwr.noaa.gov/Salmon-Harvest-Hatcheries/State-Tribal-Management/PS-Chinook-RMPs.cfm.

Background

In April, 2010, the Puget Sound Treaty Tribes and the WDFW (co-managers) provided a jointly developed RMP that encompasses Strait of Juan de Fuca and Puget Sound salmon fisheries affecting the Puget Sound Chinook salmon ESU. The RMP encompasses salmon and steelhead fisheries within the area defined by the Puget Sound Chinook salmon ESU, as well as the western Strait of Juan de Fuca, which is not within the ESU. The RMP is effective from May 1, 2010, through April 30, 2015. Harvest objectives specified in the RMP account for fisheries-related mortality of Puget Sound Chinook throughout its migratory range, from Oregon and Washington to southeast Alaska. The RMP also includes implementation, monitoring and evaluation procedures designed to ensure fisheries are consistent with these objectives.

On July 10, 2000, NMFS issued a rule under section 4(d) of the ESA (referred hereafter as the 4(d) Rule), establishing take prohibitions for 14 salmon and steelhead ESUs, including the Puget Sound Chinook salmon ESU (50 CFR 223.203(b)(6); July 10, 2000, 65 FR 42422). In 2005, as part of the final listing determinations for sixteen ESUs of West Coast salmon, NMFS amended and streamlined the previously promulgated 4(d) protective regulations for threatened salmon and steelhead (70 FR 37160, June 28, 2005). Under these regulations, the same set of fourteen limits was applied to all threatened Pacific salmon and steelhead ESUs or Distinct Population Segments (DPS). As required by § 223.203(b)(6) of the ESA 4(d) rule (50 CFR 223.203), the Secretary must determine pursuant to 50 CFR 223.209 (renumbered 50 CFR 223.204) and pursuant to the government to government processes therein whether the RMP for Puget Sound Chinook would appreciably reduce the likelihood of survival and recovery of the Puget Sound Chinook and other affected threatened ESUs.

Authority

Under section 4(d) of the ESA, 16 U.S.C. 1533(d), NMFS, by delegated authority from the Secretary of Commerce, is required to adopt such regulations as it deems necessary and advisable for the conservation of the species listed as threatened. The ESA salmon and steelhead 4(d) rule (65 FR 42422, July 10, 2000) specifies categories of activities that contribute to the conservation of listed salmonids or are governed by a program that adequately limits impacts on listed salmonids, and sets out the criteria for such activities. The rule further provides that the prohibitions of paragraph (a) of the rule do not apply to actions undertaken in compliance with a RMP developed jointly within the continuing jurisdiction of United States v. Washington by the State of Washington and the Tribes and determined by NMFS to be in accordance with the provisions of 50 CFR 223.203(b)(6), (i.e., Limit 6 of the salmon and steelhead 4(d) rule (65 FR 42422, July 10, 2000)). In 2005, as part of the final listing determinations for sixteen Evolutionarily Significant Units of West Coast salmon, NMFS amended and streamlined the previously promulgated 4(d) protective regulations for threatened salmon and steelhead (70 FR 37160, June 28, 2005). Under these regulations, the same set of fourteen limits was applied to all threatened Pacific salmon and steelhead ESUs or DPSs.

Dated: December 22, 2010.
Susan Pultz,
Acting Chief, Endangered Species Division, Office of Protected Resources, National Marine Fisheries Service.

[FR Doc. 2010-32845 Filed 12-28-10; 8:45 am]

BILLING CODE 3510-22-P